DEPARTMENT OF COMMERCE

International Trade Administration

(A-580-810, A-583-815)

Continuation of Antidumping Duty Orders on Welded ASTM A-312 Stainless Steel Pipe from Korea and Taiwan

AGENCY: Import Administration, International Trade Administration, Department of Commerce.

SUMMARY: As a result of the determinations by the Department of Commerce (the Department) and the International Trade Commission (ITC) that revocation of the antidumping duty orders on Welded ASTM A-312 Stainless Steel Pipe (WSSP) from Korea and Taiwan would likely lead to continuation or recurrence of dumping, the Department is publishing notice of continuation of these antidumping duty orders.

FOR FURTHER INFORMATION CONTACT: Jacqueline Arrowsmith or Dana Mermelstein, AD/CVD Operations, Office 6, Import Administration, International Trade Administration, U.S. Department of Commerce, 14th Street and Constitution Avenue, NW, Washington, DC 20230; telephone: (202) 482-5255 or (202) 482-1391, respectively.

EFFECTIVE DATE: August 28, 2006

SUPPLEMENTARY INFORMATION:

Background

On September 1, 2005, the Department initiated and the ITC instituted sunset reviews of the antidumping duty orders on WSSP from Korea and Taiwan, pursuant to section 751(c) of the Tariff Act of 1930, as amended (the Act). See Initiation of Five-year (Sunset) Reviews, 70 FR 52074 (September 1, 2005), and ITC notice of institution on Certain Welded Stainless Steel Pipe from Korea and Taiwan, 70 FR 52124 (September 1, 2005). As a result of its review, the Department found that revocation of the antidumping duty orders would likely lead to continuation or recurrence of dumping, and notified the ITC of the magnitude of the margins likely to prevail were the orders to be revoked. See Welded ASTM A-312 Stainless Steel Pipe from Korea and Taiwan: Notice of Final Results of Expedited (“Sunset”) Reviews of Antidumping Duty Orders, 71 FR 96 (January 3, 2006).

On August 22, 2006, the ITC determined, pursuant to section 751(c) of the Act, that revocation of the antidumping duty orders on WSSP from Korea and Taiwan would likely lead to continuation or recurrence of material injury to an industry in the United States within a reasonably foreseeable time. See Certain Welded Stainless Steel Pipe from Korea and Taiwan, 71 FR 48941 (August 22, 2006) and USITC Publication 3877 (August 2006) (Inv. Nos. 731-TA-540 and 541) (Second Review)).

Scope of the Orders

The merchandise covered by these antidumping duty orders consists of austenitic stainless steel pipe that meets the standards and specifications set forth by the American Society for Testing and Materials (ASTM) for the welded form of chromium-nickel pipe designated ASTM A-312. Welded Stainless Steel Pipe (WSSP) is produced by forming stainless steel flat-rolled products into a tubular configuration and welding along the seam. WSSP is a commodity product generally used as a conduit to transmit liquids or gases. Major applications for WSSP include, but are not limited to, digester lines, blow lines, pharmaceutical lines, petrochemical stock lines, brewery process and transport lines, general food processing lines, automotive paint lines and paper process machines. Imports of these products are currently classifiable under the following United States Harmonized Tariff Schedule (HTS) subheadings for Korea: 7306.40.5005, 7306.40.5015, 7306.40.5045, 7306.40.5060 and 7306.40.5075. Imports of these products are currently classifiable under the following HTS subheadings for Taiwan:

7306.40.1000, 7306.40.5005, 7306.40.5015, 7306.40.5040, 7306.40.5065, and 7306.40.5085. Although these subheadings include both pipes and tubes, the scope of these orders is limited to welded austenitic stainless steel pipes. Although HTS subheadings are provided for convenience and Customs purposes, the written description of the scope remains dispositive.

Continuation of Antidumping Duty Orders

As a result of the determinations by the Department and the ITC that revocation of these antidumping duty orders would likely lead to continuation or recurrence of dumping and material injury in the United States, pursuant to section 751(d)(2) of the Act, the Department hereby orders the continuation of the antidumping duty orders on WSSP from Korea and Taiwan. U.S. Customs and Border Protection will continue to collect antidumping duty cash deposits at the rates in effect at the time of entry for all imports of subject merchandise. The effective date of continuation of these orders is August 28, 2006. Pursuant to sections 751(c)(2) and 751(c)(6)(A) of the Act, the Department intends to initiate the next five-year reviews of these orders not later than July 2011.

This notice of continuation and these sunset reviews are in accordance with section 751(c) of the Act and published pursuant to section 777(i)(1) of the Act.

Dated: September 5, 2006.
David A. Spooner,
Assistant Secretary for Import Administration.

[FR Doc. E6-14999 Filed 9-8-06; 8:45 am]

BILLING CODE 3510-DS-S